DEPARTMENT OF TRANSPORTATION

Federal Highway Administration

Environmental Impact Statement; Galveston County, TX

AGENCY: Federal Highway Administration (FHWA), TxDOT.

ACTION: Notice of intent, Bolivar Bridges EIS.

SUMMARY: The FHWA is issuing this notice to advise the public that an Environmental Impact Statement (EIS) will be prepared for a proposed State Highway (SH) 87 bridge connecting Galveston Island and Bolivar Peninsula in Galveston County, Texas.

FOR FURTHER INFORMATION CONTACT: Mr. Gary Johnson, P.E., Federal Highway Administration, Texas Division, 300 East 8th Street, Room 826, Austin, Texas 78701, Telephone (512) 536-5960.

SUPPLEMENTARY INFORMATION: Federal Highway Administration (FHWA), in cooperation with TxDOT, will prepare an EIS on a proposal that includes transportation alternatives within the southern portion of Bolivar Peninsula from the Bolivar ferry landing to SH 124, the northern portion of Galveston Island from Interstate Highway (IH) 45 at the Galveston Causeway to the Galveston ferry landing, and Pelican Island. The project area crosses Galveston Bay and the Galveston, Texas City, and Houston ship channels.

TxDOT currently operates a free ferry system between Galveston Island and Bolivar Peninsula. Due to increased operations and maintenance coasts, TxDOT is proposing to replace the existing ferry system with a permanent bridge. Increasing traffic along SH 87 (Ferry Road) has resulted in lengthy delays for residents and visitors. These delays have resulted in slow emergency vehicle response times and long commute times. Public meetings were held in 200 on Bolivar Peninsula and Galveston Island to solicit comments regarding the existing ferry system and potential long term improvements. Citizens expressed a desire for immediate improvements to the ferry system and favored a bridge for long-term improvements.

In 2001, a feasibility study was completed which evaluated the existing ferry system and identified and compared alternatives for a proposed bridge location. TxDOT is preparing an EIS to further evaluate viable build alternatives and a no build alternative. The implementation of tolling will be considered as a funding option.

The EIS will include a recommended bridge location, number of lanes, roadway configuration, and operational characteristics of the proposed bridge. It will also include a discussion of the effects on socioeconomics, travel patterns, hazardous materials, cultural resources, traffic noise, air quality, biological resources, water resources, floodplains, and wetlands.

Correspondence describing the proposed project and soliciting comments has been sent to appropriate Federal, state, regional, and local agencies, and to organizations and persons who have previously expressed an interest or are known to have an interest in this project.

TxDOT will conduct two public meetings in February 2006. The public meetings will be conducted in an open house format with no formal presentation. At least 30 days and 10 days prior to the public scoping meetings, notices will be published in newspapers generally circulated in the project area. These will be the first in a series of meetings to solicit public comments on the proposed action as part of the National Environmental Policy Act (NEPA) process. Persons interested in attending these meetings who have special communication or accommodation needs are encouraged to contact the local TxDOT Public Information Office at (713) 802-5072 at least two days prior to the meetings. Because the public meetings will be conducted in English, any requests for language interpreters or other special communication needs should also be made at least two days prior to the public meetings. Every reasonable effort will be made to accommodate these needs.

Public involvement will occur throughout the planning process. Public notice will be given stating the time and place of future public meetings and hearings. The Draft EIS will be available for public and agency review and comment prior to a public hearing.

To ensure that the full range of issues related to this proposed actions are addressed and all significant issues identified, comments and suggestions are invited from all interested parties. Comments or questions concerning this proposed action and the EIS should be directed to TxDOT at the address provided. Additional project information may be obtained by visiting the project Web site at http://www.bolivarbridge.com.

(Catalog of Federal Domestic Assistance Program Number 20.205 Highway Planning and Construction. The regulations implementing Executive Order 12372 regarding governmental consultation on federal programs and activities apply to this program.)
Gary Johnson,
Acting District Engineer, FHWA Texas Division.

[FR Doc. 06-1238 Filed 2-9-06; 8:45 am]

BILLING CODE 4910-22-M